DEPARTMENT OF AGRICULTURE

Rural Utilities Service

[Docket No. RUS-23-ELECTRIC-0026]

60-Day Notice of Proposed Information Collection: Accounting Requirements for RUS Electric and Telecommunications Borrowers; OMB Control No.: 0572-0003

AGENCY: Rural Utilities Service, USDA.

ACTION: Notice; request for comments.

SUMMARY: The Rural Utilities Service (RUS) announces its' intention to request a revision of a currently approved information collection and invites comments on this information collection.

DATES: Comments on this notice must be received by April 9, 2024 to be assured of consideration.

ADDRESSES: Comments may be submitted through the Federal eRulemaking Portal at: https://www.regulations.gov. To comment, in the “Search” box, enter the docket number: “RUS-23-ELECTRIC-0026.” You will be taken to the “Search Results” page and a link to the Notice. To submit a comment, click on the “Comments” button under the Notice document name (this will be under the “Documents” tab if not already brought there). When you comment, you must complete all the required information, and include the Agency name and docket number. When done commenting, select the “Submit Comment” button at the bottom of the page. Information on commenting is available in the “Commenter's Checklist” located at the top of the comment page or by viewing the FAQ tab. All comments submitted, from all sources, will be posted, without change to https://www.regulations.gov. Comments containing profanity, vulgarity, threats, or other inappropriate language or content will not be considered. The Agency requests that no business proprietary information, copyrighted information, or personally identifiable information be submitted in response to this Notice.

FOR FURTHER INFORMATION CONTACT: Crystal Pemberton, Management Analyst, Branch 1, Rural Development Innovation Center—Regulations Management Division, United States Department of Agriculture, 1400 Independence Avenue SW, South Building, Washington, DC 20250-1522. Telephone: (202) 260-8621, Email: Crystal.Pemberton@usda.gov.

SUPPLEMENTARY INFORMATION: The Office of Management and Budget's (OMB) regulation (5 CFR part 1320) implementing provisions of the Paperwork Reduction Act of 1995 (Pub. L. 104-13) requires that interested members of the public and affected agencies have an opportunity to comment on information collection and recordkeeping activities (see, 5 CFR 1320.8(d)). This notice identifies the following information collection that RUS is submitting to OMB as a revision to an existing collection with Agency adjustment.

Title: Accounting Requirements for Electric and Telecommunications Borrowers.

OMB Control Number: 0572-0003.

Expiration Date of Approval: August 31, 2024.

Type of Request: Revision of a currently approved information collection.

Estimate of Burden: Public reporting burden for this collection of information is estimated to average 2 hours per response. The recordkeeping burden for this collection of information is estimated to average 25 hours per response.

Respondents: Business or other for-profit, Not-for-profit institutions.

Estimated Number of Respondents: 1,252.

Estimated Number of Responses per Respondent: 1.

Estimated Total Annual Burden on Respondents: 2,504 hours.

Estimated Total Annual Burden on Recordkeepers: 31,300 hours.

Abstract: The Rural Utilities Service (RUS) is a credit agency of the USDA which makes direct and guaranteed loans to finance electric and telecommunications facilities in rural areas. Accounting requirements that are unique to RUS borrowers are contained in 7 CFR parts 1767 and 1770 which establish basic accounting requirements for the recording of financial information that must be available to the management, investors, and lenders of any business enterprise. This collection is primarily a record keeping requirement, although the Agency is requiring borrowers to establish an index of records. The hours of burden to maintain this index are directly related to the portions of the accounting system that are unique to the Agency. There are many important financial considerations for retention and preservation of accounting records. One of the most important considerations to RUS is that documentation be available so that the borrower's records may be audited for proper disbursements of funds.

Comments are invited on:

(a) Whether the collection of information is necessary for the proper performance of the functions of the agency, including whether the information will have practical utility;

(b) the accuracy of the agency's estimate of the burden of the collection of information including the validity of the methodology and assumptions used;

(c) ways to enhance the quality, utility and clarity of the information to be collected; and

(d) ways to minimize the burden of the collection of information on respondents, including the use of appropriate automated, electronic, mechanical, or other technological collection techniques or other forms of information technology. All responses to this notice will be summarized and included in the request for OMB approval. All comments will become a matter of public record.

Copies of this information collection can be obtained from Crystal Pemberton, Management Analyst, Rural Development Innovation Center—Regulations Management Division, at (202) 260-8621. Email: Crystal.Pemberton@usda.gov.

All responses to this notice will be summarized and included in the request for OMB approval. All comments will also become a matter of public record.

Andrew Berke,
Administrator, Rural Utilities Service.

[FR Doc. 2024-02702 Filed 2-8-24; 8:45 am]

BILLING CODE 3410-XV-P